DEPARTMENT OF ENERGY

Federal Energy Regulatory Commission

[Docket No. RP04-68-000]

Kern River Gas Transmission Company; Notice of Proposed Changes in FERC Gas Tariff

November 28, 2003.

Take notice that on November 25, 2003, Kern River Gas Transmission Company (Kern River) tendered for filing as part of its FERC Gas Tariff, Second Revised Volume No. 1, the tariff sheets listed on Appendix A of the filing, to be effective January 1, 2004.

Kern River states that the purpose of this filing is (1) to adjust Kern River's daily reservation/demand rates, authorized overrun rates, and interruptible rates to reflect a slight reduction in those rates because calendar year 2004 has 366 days, and current rates are based on 365 days; (2) to delete the monthly rates stated in Kern River's tariff; (3) to change monthly rate references and formulas to daily rate references and formulas, where applicable, and to make other miscellaneous, rate-related changes.

Kern River states that it has served a copy of this filing upon its customers and interested state regulatory commissions.

Any person desiring to be heard or to protest said filing should file a motion to intervene or a protest with the Federal Energy Regulatory Commission, 888 First Street, NE., Washington, DC 20426, in accordance with § 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary”. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Linda Mitry,
Acting Secretary.

FR Doc. E3-00458 Filed 12-3-03; 8:45 am]

BILLING CODE 6717-01-P